INTERNATIONAL TRADE COMMISSION

[Investigation No. 337-TA-719]

In the Matter of Certain Lighting Products; Notice of Commission Decision Not To Review an Initial Determination Terminating a Respondent on the Basis of a Settlement Agreement and a Consent Order; Issuance of Consent Order; Termination of the Investigation

AGENCY: U.S. International Trade Commission.

ACTION: Notice.

SUMMARY: Notice is hereby given that the U.S. International Trade Commission has determined not to review the presiding administrative law judge's initial determination (Order No. 7) granting a joint motion to terminate the sole respondent in the above-captioned investigation on the basis of a settlement agreement and a proposed consent order. The Commission has issued the subject consent order. The investigation is terminated.

FOR FURTHER INFORMATION CONTACT: Sidney A. Rosenzweig, Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 2, 2010, based on a complaint filed by Blumberg Industries, Inc., d/b/a Fine Arts Lamps (Miami Lakes, Florida) (“Blumberg”), alleging a violation of section 337 in the importation, sale for importation, and sale within the United States after importation of certain lighting products by reason of infringement of U.S. Patent No. D570,038; U.S. Copyright Registration Nos. VA 1-399-618 and VA 1-415-353; and U.S. Trademark Registration Nos. 3,703,710, 3,703,711, 3,700,479, and 3,700,480. 75 FR 30855 (June 2, 2010). The complaint, as supplemented, named one respondent: Lights & More, Inc. (San Juan, Puerto Rico) (“L&M”).

On September 17, 2010, Blumberg and L&M moved to terminate the investigation against L&M based on a proposed consent order and consent order stipulation. On September 20, 2010, the Commission investigative attorney responded in support of the motion. On September 23, 2010, the ALJ granted the motion as an Initial Determination (“ID”) and terminated the investigation. Order No. 7.

No petitions for review of the ID were filed. The Commission has determined not to review the ID and has issued the subject consent order. The investigation is terminated.

The authority for the Commission's determination is contained in section 337 of the Tariff Act of 1930, as amended (19 U.S.C. 1337), and in sections 210.21 and 210.42 of the Commission's Rules of Practice and Procedure (19 CFR 210.21, 210.42).

Issued: October 18, 2010.
By order of the Commission.
William R. Bishop,
Acting Secretary to the Commission.

[FR Doc. 2010-26647 Filed 10-21-10; 8:45 am]

BILLING CODE P